DEPARTMENT OF COMMERCE

National Oceanic and Atmospheric Administration

[I.D. 051804A]

Marine Mammals; File Nos. 226-1752 and 116-1742

AGENCY: National Marine Fisheries Service (NMFS), National Oceanic and Atmospheric Administration (NOAA), Commerce.

ACTION: Issuance of permits.

SUMMARY: Notice is hereby given that the following public display permits have been issued: Theater of the Sea, 84721 Overseas Highway, Islamorada, FL 33036 (File No. 226-1752) for the importation of one bottlenose dolphin (Tursiops truncatus) and Sea World, Inc., 7007 Sea World Drive, Orlando, FL 32821 (File No. 116-1742) for the importation of one beluga whale (Delphinapterus leucas).

ADDRESSES: The permit and related documents are available for review upon written request or by appointment in the following office(s):

Permits, Conservation and Education Division, Office of Protected Resources, NMFS, 1315 East-West Highway, Room 13705, Silver Spring, MD 20910; phone (301)713-2289; fax (301)713-0376;

File No. 116-1742: Southwest Region, NMFS, 501 West Ocean Blvd., Suite 4200, Long Beach, CA 90802-4213; phone (562)980-4001; fax (562)980-4018; and

File No. 226-1752: Southeast Region, NMFS, 9721 Executive Center Drive North, St. Petersburg, FL 33702-2432; phone (727)570-5301; fax (727)570-5320.

FOR FURTHER INFORMATION CONTACT: Jennifer Skidmore or Jill Lewandowski, (301)713-2289.

SUPPLEMENTARY INFORMATION: On April 16, 2004, notice was published in the Federal Register (69 FR 20602) that a request for a public display permit to import one adult, male bottlenose dolphin had been submitted by Theater of the Sea and a request for a public display permit to import one adult, female beluga whale had been submitted by Sea World, Inc. The requested permits have been issued under the authority of the Marine Mammal Protection Act of 1972, as amended (16 U.S.C. 1361 et seq.), and the Regulations Governing the Taking and Importing of Marine Mammals (50 CFR part 216).

Dated: May 21, 2004.
Stephen L. Leathery,
Chief, Permits, Conservation and Education Division, Office of Protected Resources, National Marine Fisheries Service.

[FR Doc. 04-12056 Filed 5-26-04; 8:45 am]

BILLING CODE 3510-22-S